DEPARTMENT OF THE INTERIOR

Minerals Management Service

Wyoming Oil Royalty-In-Kind Pilot Report

AGENCY: Minerals Management Service, Interior.

ACTION: Notice of Availability For Review and Comment of the Wyoming Oil Royalty-In-Kind Pilot Report—Evaluation of the Pilot's First 18 Months (October 1998—March 2000).

SUMMARY: Minerals Management Service (MMS) will post on MMS's Internet Home Page the Wyoming Oil Royalty-In-Kind Pilot Report—18 Months and Counting. Comments will be accepted electronically or in hard copy.

DATES: Please submit comments on or before April 27, 2001.

ADDRESSES: The Report may also be obtained by contacting Mr. Martin C. Grieshaber, Minerals Management Service, MS 9200, PO Box 25165, Denver, CO 80225-0165.

FOR FURTHER INFORMATION CONTACT: Mr. Martin C. Grieshaber, telephone number (303) 275-7118; fax (303) 275-7124; e-mail Martin.Grieshaber@mms.gov.

SUPPLEMENTARY INFORMATION: The Report will be posted at http://www.mrm.mms.gov under the icons “What's New” and “Royalty in Kind.” The Wyoming Oil Royalty-In-Kind Pilot was a result of a feasibility study published by MMS in 1997. That study concluded that, under the right circumstances, royalty in kind could be workable, revenue neutral or positive, and administratively more efficient for MMS and industry. The study recommended a set of royalty-in-kind pilot projects to test these conclusions. MMS, in partnership with the State of Wyoming, began taking in kind and offering for sale oil from leases in the Big Horn and Powder River Basins in October 1998. The Report summarizes and analyzes the results of the first three 6-month sales. The Wyoming Oil Royalty-in-Kind Program is currently in its sixth sale period.

MMS and the State of Wyoming have been in continuous contact with affected parties. The Royalty-in-Kind Program is under constant improvement. Many of these improvements are a direct result of the lessons learned during the pilot period and subsequent sales. MMS's intent in making the Report available for comment prior to finalization is to continue these iterative improvements by receiving comments from individuals and groups with expertise in the Wyoming oil market. General comments concerning the analysis of the Wyoming Oil Royalty-in-Kind Pilot will assist MMS in future reviews of its gas Royalty-in-Kind Pilots in the Gulf of Mexico.

Dated: March 7, 2001.
Walter Cruickshank,
Associate Director for Policy and Management Improvement.

[FR Doc. 01-6131 Filed 3-12-01; 8:45 am]

BILLING CODE 4310-MR-W